DEPARTMENT OF JUSTICE

Antitrust Division

Notice Pursuant to the National Cooperative Research and Production Act of 1993—TeleManagement Forum

Notice is hereby given that, on April 25, 2016, pursuant to section 6(a) of the National Cooperative Research and Production Act of 1993, 15 U.S.C. 4301 et seq. (“the Act”), TeleManagement Forum (“The Forum”) filed written notifications simultaneously with the Attorney General and the Federal Trade Commission disclosing changes in its membership. The notifications were filed for the purpose of extending the Act's provisions limiting the recovery of antitrust plaintiffs to actual damages under specified circumstances. Specifically, the following parties have been added as members to this venture: TWI, Cambridge, UNITED KINGDOM; DataProbity, Stuart, FL; Hangzhou Eastcom Software Technology Co., Ltd., Guangzhou, PEOPLE'S REPUBLIC OF CHINA; Multinational Alliance for Collaborative Cyber Situational Awareness (MACCSA), Shrewton, UNITED KINGDOM; MÜNCHNER KREIS, München, GERMANY; triPica, Paris, FRANCE; Teltech Communications LLC, Dallas, TX; AZR L.L.C., Tripoli, LIBYA; Pervazive, Bengaluru, INDIA; Vodacom (Pty) Ltd., Midrand, SOUTH AFRICA; Fornax ICT Kft., Budapest, HUNGARY; Pryv, Lausanne, SWITZERLAND; Knowesis Pte Ltd., Singapore, SINGAPORE; Cloud Best Practices Network, London, UNITED KINGDOM; Active Minds, Belfast, UNITED KINGDOM; bit2win, Rome, ITALY; Cardinality, Ealing, UNITED KINGDOM; Readiness IT Systems Integration, S.A., Matosinhos, PORTUGAL; Guangzhou Highjet Technology Co., Ltd., Guangzhou, PEOPLE'S REPUBLIC OF CHINA; DataMi, Chelmsford, MA; Ebistrategy Software (Shanghai) Co., Ltd., Shanghai, PEOPLE'S REPUBLIC OF CHINA; Elephant Talk Communications, New York, NY; Premavals, Noisy-le-Grand, FRANCE; Eir, Dublin, IRELAND; Coeos Assurances, Paris, FRANCE; SigScale Global Inc., Colombo, SRI LANKA; AVSystem, Kraków, POLAND; NetYCE, Amsterdam, NETHERLANDS; Hortonworks, Inc., Santa Clara, CANADA; Stream Technologies Ltd, Glasgow, UNITED KINGDOM; CRM.COM Software Ltd., Nicosia, CYPRUS; Elite Business, Tunis, TUNISIA; 3Consulting, Lagos, NIGERIA; VMware, Inc., Palo Alto, CA; Linkem Spa, Rome, ITALY; Zeotap GmbH, Berlin, GERMANY; Blueline, Antananarivo, MADAGASCAR; Sri Lanka Telecom PLC, Colombo, SRI LANKA; Innowave Technologies, Lisbon, PORTUGAL; Swiss Post Ltd, Berne, SWITZERLAND; Ooredoo Tunis, Tunis, TUNISIA; Indosat Ooredoo, Jakarta, INDONESIA; Wataniya Palestine, Al Bireh, PALESTINIAN TERRITORY; Ooredoo Qatar, Doha, QATAR; Ooredoo Oman, Muscat, OMAN; Ooredoo Maldives Pvt. Ltd., Hulhumale, MALDIVES; Ooredoo Myanmar, Jakarta, INDONESIA; Ooredoo Kuwait, Plot 1A, Sharq Area, KUWAIT; Ooredoo Algeria, Alger, ALGERIA; AsiaCell Communications LLC, Sulaimaniyah, IRAQ; Michi Creative City Designers Inc., Tokyo, JAPAN; ZAA Architects, Montréal, CANADA; Canoe Ventures, Englewood, CO; Dorado Software, Folsom, CA; Waterfront Toronto, Toronto, CANADA; and Carlo Ratti Associati, Torino, ITALY.

Also, the following members have changed their names: PT Affia Andal Jasa Bismatamma (RSM AAJ ASSOCIATES) to PT RSM Indonesia Konsultan (RSM Indonesia), Jakarta, INDONESIA; NTS New Technology Systems GmbH to NTS Retail, Wilhering, AUSTRIA; AS Eesti Telekom to Telia Eesti AS, Tallinn, ESTONIA; Fornax Informatika to Fornax ICT Kft., Budapest, HUNGARY; Prodapt to Prodapt North America, Inc., Tualatin, OR; Knowesis Technology to Knowesis Pte Ltd, Singapore, SINGAPORE; and Citizen Telecom Services Company L.L.C. d/b/a Frontier Communications to Citizen Telecom Services Company L.L.C., Rochester, NY.

In addition, the following members have withdrawn as parties to this venture: AetherPal, South Plainfield, NJ; Almadar Aljadid, Tripoli, LIBYA; Applied Network Solutions, Inc., Columbia, MD; ARTIN Solutions, Bratislava, SLOVAKIA; BAE Systems Applied Intelligence, London, UNITED KINGDOM; Bank of America, New York, NY; beCloud, Minsk, BELARUS; Bobbil, Cork, IRELAND; BrandedIPTV, Hong Kong, HONG-KONG CHINA; Bright Computing BV, Amsterdam, NETHERLANDS; Broadband Infraco (SOC) Ltd, Johannesburg, SOUTH AFRICA; BTC Networks, Riyadh, SAUDI ARABIA; Business-intelligence of Oriental Nations Corporation Ltd., Beijing, PEOPLE'S REPUBLIC OF CHINA; Calix, Inc., Petaluma, CA; Cignium Technologies, Fort Lee, NJ; Cleartech, Barueri, BRAZIL; Ernst & Young, S.A. Costa Rica, San José, COSTA RICA; Eyelbe Ltd., Malmesbury, UNITED KINGDOM; Factdelta, Swansea, UNITED KINGDOM; GENBAND, Frisco, TX; i2i Bilisim Ve Teknoloji Danismanlik Tic Ltd., Kocaeli, TURKEY; ICCE Systems, Cary, NC; iiNet Limited, Subiaco, AUSTRALIA; InfoCumulus, Zagreb, CROATIA; Infopact Netwerkdiensten B.V., Hoogvliet, NETHERLANDS; Innovise ESM Ltd., Slough, UNITED KINGDOM; Instituto Costarricense de Electricidad ICE, San Jose, COSTA RICA; Iprotel Limited, Reading, UNITED KINGDOM; Kaiser Permanente, Pleasanton, CA; Kwezi Software Solutions, Johannesburg, SOUTH AFRICA; Maksen Consulting, S.A., Lisbon, PORTUGAL; metaWEAVE, Centurion, SOUTH AFRICA; Mformation Software Technologies, Edison, NJ; Mobius Wireless Solutions Ltd., Shanghai, PEOPLE'S REPUBLIC OF CHINA; moreCom AS, Halden, NORWAY; Mozambique Cellular SARL (mcel), Maputo, MOZAMBIQUE; Neotel (Proprietary) Ltd., Johannesburg, SOUTH AFRICA; NETvisor, Budapest, HUNGARY; Neural Technologies, Petersfield, UNITED KINGDOM; Neurocom SA, Athens, GREECE; NISCERT Corporation, Toronto, CANADA; N-Pulse GmbH, Heppenheim, GERMANY; Ogilvy, London, UNITED KINGDOM; one2tribe Sp. z o.o., Michalowice, POLAND; Onesto Services Oy, Jyvaskyla, FINLAND; Openet, Dublin, IRELAND; ParStream, Redwood City, CA; Ranck Consulting, Chevy Chase, MD; Simply Execute, Uerikon, SWITZERLAND; Softera Oy, Helsinki, FINLAND; Svarog Technology Group Inc., Half Moon Bay, CA; Tarantula, Slough, UNITED KINGDOM; TE Data, Dokki, EGYPT; Telecom Egypt, Giza, EGYPT; Telefonica Global Technology SA, Buenos Aires, ARGENTINA; Vertek Corporation, Colchester, VT; Visa, San Francisco, CA; Vox Telecom, Waverley, SOUTH AFRICA; and Worldstream Systems & Services, Ebene Cybercity, MAURITIUS.

No other changes have been made in either the membership or planned activity of the group research project. Membership in this group research project remains open, and the Forum intends to file additional written notifications disclosing all changes in membership.

On October 21, 1988, the Forum filed its original notification pursuant to section 6(a) of the Act. The Department of Justice published a notice in the Federal Register pursuant to section 6(b) of the Act on December 8, 1988 (53 FR 49615).

The last notification was filed with the Department on January 29, 2016. A notice was published in the Federal Register pursuant to section 6(b) of the Act on March 9, 2016 (81 FR 12527).

Patricia A. Brink,
Director of Civil Enforcement, Antitrust Division.

[FR Doc. 2016-13625 Filed 6-8-16; 8:45 am]

BILLING CODE P